CONSUMER PRODUCT SAFETY COMMISSION

16 CFR Part 1241

Safety Standard for Crib Mattresses

CFR Correction

This rule is being published by the Office of the Federal Register to correct an editorial or technical error that appeared in the most recent annual revision of the Code of Federal Regulations.

In Title 16 of the Code of Federal Regulations, Part 1000 to End, revised as of January 1, 2025, in § 1241.2, in paragraph (a), remove the term “http://www.astm.org/READINGROOM/” and add “https://www.astm.org/READINGLIBRARY/” in its place.

[FR Doc. 2025-09578 Filed 5-23-25; 8:45 am]

BILLING CODE 0099-10-D